POSTAL SERVICE

International Product Change—Priority Mail Express International, Priority Mail International & First-Class Package International Service Agreements

AGENCY: Postal Service.

ACTION: Notice.

SUMMARY: The Postal Service gives notice of filing requests with the Postal Regulatory Commission to add certain Priority Mail Express International, Priority Mail International & First-Class Package International Service contracts to the list of Negotiated Service Agreements in the Competitive Product List in the Mail Classification Schedule.

DATES: Date of notice: December 23, 2025.

FOR FURTHER INFORMATION CONTACT: Christopher C. Meyerson, (202) 268-7820.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
12/16/2025 | PMEI, PMI & FCPIS 102 | MC2026-135 | K2026-135
12/16/2025 | PMEI, PMI & FCPIS 103 | MC2026-139 | K2026-139
12/16/2025 | PMEI, PMI & FCPIS 104 | MC2026-138 | K2026-138
12/16/2025 | PMEI, PMI & FCPIS 105 | MC2026-137 | K2026-137

Documents are available at www.prc.gov.

Jeffrey Boblick,
Attorney, Ethics and Legal Compliance.

[FR Doc. 2025-23708 Filed 12-22-25; 8:45 am]

BILLING CODE 7710-12-P